POSTAL SERVICE

Privacy Act of 1974; System of Records

AGENCY: Postal Service™.

ACTION: Notice of revisions to existing systems of records.

SUMMARY: The United States Postal Service® (Postal Service) is proposing to revise the Customer Privacy Act Systems of Records (SOR). These changes are being made to permit disclosure to the National Labor Relations Board (NLRB) in response to its request for investigative purposes, to the extent that the requested information is relevant and necessary.

DATES: These revisions will become effective without further notice on February 26, 2018, unless comments received on or before that date result in a contrary determination.

ADDRESSES: Comments may be mailed or delivered to the Privacy and Records Management Office, United States Postal Service, 475 L'Enfant Plaza SW, Room 1P830, Washington, DC 20260-1101. Copies of all written comments will be available at this address for public inspection and photocopying between 8 a.m. and 4 p.m., Monday through Friday.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service™ has determined that three Customer Privacy Act Systems of Records should be revised to modify routine uses of records maintained in the system, including categories of users and the purposes of such uses.

I. Background

The Postal Service will provide the NLRB with necessary information so that it can effectively carry out its statutory duty to investigate and police alleged violations of the National Labor Relations Act.

II. Rationale for Changes to USPS Privacy Act Systems of Records

The following USPS Privacy Act System of Records are being revised to permit disclosure of records to the NLRB in response to its request for investigative purposes, to the extent that the requested information is relevant and necessary:

a. USPS 100.000 System Name: General Personnel Records.

b. USPS 100.900 System Name: Employee Inquiry, Complaint, and Investigative Records.

c. USPS 200.000 System Name: Labor Relations Records.

III. Description of Changes to Systems of Records

Pursuant to 5 U.S.C. 552a(e)(11), interested persons are invited to submit written data, views, or arguments on this proposal. A report of the proposed revisions has been sent to Congress and to the Office of Management and Budget for their evaluations. The Postal Service does not expect these amended systems of records to have any adverse effect on individual privacy rights. The affected systems are as follows:

USPS 100.000

SYSTEM NAME:

General Personnel Records.

* * * * *

ROUTINE USES OF RECORDS MAINTAINED IN THE SYSTEM, INCLUDING CATEGORIES OF USERS AND THE PURPOSES OF SUCH USES

[CHANGE TO READ]

* * * * *

c. Records may be disclosed to the National Labor Relations Board (NLRB) in response to its request for investigative purposes, to the extent that the requested information is relevant and necessary.

USPS 100.900

SYSTEM NAME:

Employee Inquiry, Complaint, and Investigative Records.

* * * * *

ROUTINE USES OF RECORDS MAINTAINED IN THE SYSTEM, INCLUDING CATEGORIES OF USERS AND THE PURPOSES OF SUCH USES

[CHANGE TO READ]

* * * * *

Standard routine uses 1. through 9. apply. In addition:

a. Records may be disclosed to the National Labor Relations Board (NLRB) in response to its request for investigative purposes, to the extent that the requested information is relevant and necessary.

USPS 200.000

SYSTEM NAME:

Labor Relations Records.

* * * * *

ROUTINE USES OF RECORDS MAINTAINED IN THE SYSTEM, INCLUDING CATEGORIES OF USERS AND THE PURPOSES OF SUCH USES

[CHANGE TO READ]

* * * * *

Standard routine uses 1. through 9. apply. In addition:

a. Records may be disclosed to the National Labor Relations Board (NLRB) in response to its request for investigative purposes, to the extent that the requested information is relevant and necessary.

Ruth B. Stevenson,
Attorney, Federal Compliance.

[FR Doc. 2018-01466 Filed 1-25-18; 8:45 am]

BILLING CODE 7710-12-P